DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing changes to the identifying information associated with five individuals and three entities previously designated pursuant to Executive Order 12978 of October 21, 1995, “Blocking Assets and Prohibiting Transactions with Significant Narcotics Traffickers.”

DATES: The changes by the Director of the Office of Foreign Assets Control to the listings of five individuals and three entities previously designated pursuant to Executive Order 12978 are effective on September 12, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

OFAC has made changes to the identifying information associated with the following five individuals and three entities previously designated pursuant to the Order:

1. OCHOA VASCO, Fabio Enrique (a.k.a. MARTINEZ PEREZ, Juan Carlos; a.k.a. OCHOA VASCO, Carlos Mario; a.k.a. “CARLOS MARIO”; a.k.a. “KIKO”; a.k.a. “KIKO EL CHIQUITO”), Medellin, Antioquia, Colombia; Guadalajara, Jalisco, Mexico; DOB 22 Nov 1960; POB Medellin, Colombia; Cedula Number 79281039 (Colombia) (individual) [SDNT].

2. FLORIDA SOCCER CLUB S.A. (a.k.a. CORPORACION DEPORTIVA FLORIDA SOCCER CLUB; a.k.a. FSC S.A.), Calle 48 No. 70-80 Ofc. 115, Medellin, Colombia; Calle 49B No. 74-31 Sector Estadio, Medellin, Colombia; Itagui, Antioquia, Colombia; NIT # 811046159 (Colombia) [SDNT].

3. INVERSIONES AGROPECUARIA ARIZONA LTDA., Calle 82 No. 43-21 Ofc. 1C, Barranquilla, Colombia; NIT # 802019694 (Colombia) [SDNT].

4. MAYOR COMERCIALIZADORA LTDA., Carrera 40 No. 169-30 Barrio Toberin, Bogota, Colombia; NIT # 80008288-4 (Colombia) [SDNT].

5. MOR GAVIRIA, Carolina, c/o DURATEX S.A., Bogota, Colombia; c/o MOR GAVIRIA Y CIA. S.C.S., Bogota, Colombia; c/o SUPER BOYS GAMES LTDA., Bogota, Colombia; DOB 17 Aug 1985; POB Colombia; Cedula No. 8715520 (Colombia) (individual) [SDNT].

6. MOR GAVIRIA, Jaime, c/o DURATEX S.A., Bogota, Colombia; c/o MOR ALFOMBRAS ALFOFIQUE S.A., Bogota, Colombia; c/o PROMOCIONES E INVERSIONES LAS PALMAS S.A., Bogota, Colombia; c/o SUPER BOYS GAMES LTDA., Bogota, Colombia; c/o GAVIRIA MOR Y CIA. LTDA., Girardot, Colombia; c/o MOR GAVIRIA Y CIA. S.C.S., Bogota, Colombia; DOB 27 Sep 1980; POB Colombia; Cedula No. 92700929 (Colombia); Passport AG443304 (Colombia) (individual) [SDNT].

7. RAMIREZ ESCUDERO, Pedro Emilio, Calle 6A No. 48-36, Cali, Colombia; c/o GALAPAGOS S.A., Cali, Colombia; Cedula No. 16280602 (Colombia) (individual) [SDNT].

8. VALENCIA TRUJILLO, Guillermo, Calle 93A No. 14-17 Ofc. 711, Bogota, Colombia; Calle 93N No. 14-20 Ofc. 601, Bogota, Colombia; Carrera 66 No. 7-31, Bogota, Colombia; Calle 67 Norte No. 8-85, Cali, Colombia; POB Cali, Valle, Colombia; Cedula No. 14942909 (Colombia); Passport 14942909 (Colombia) (individual) [SDNT].

The listings now appear as follows:

1. OCHOA VASCO, Fabio Enrique (a.k.a. GONZALEZ ZAPATA , Antonio; a.k.a. MARTINEZ PEREZ, Juan Carlos; a.k.a. OCHOA VASCO, Carlos Mario; a.k.a. VEGA TOBON, Carlos Mario; a.k.a. “CARLOS MARIO”; a.k.a. “KIKO”; a.k.a. “KIKO EL CHIQUITO”), Medellin, Antioquia, Colombia; Av Miguel Angel 18, Real Vallarta, Zapopan, Jalisco 44020, Mexico; Av Mexico 2867-17, Col Vallarta, Norte, Guadalajara, Jalisco 44690, Mexico; DOB 22 Nov 1960; alt. DOB 20 Nov 1963; POB Medellin, Colombia; Cedula No. 15508422 (Colombia); Cedula Number 79281039 (Colombia); Passport AE063894 (Colombia) (individual) [SDNT].

2. FLORIDA SOCCER CLUB S.A. (a.k.a. CORPORACION DEPORTIVA FLORIDA SOCCER CLUB; a.k.a. FSC S.A.), Calle 48 No. 70-80 Ofc. 115, Medellin, Colombia; Calle 49B No. 74-31 Sector Estadio, Medellin, Colombia; Itagui, Antioquia, Colombia; NIT # 811046159-2 (Colombia) [SDNT].

3. INVERSIONES AGROPECUARIA ARIZONA LTDA., Calle 82 No. 43-21 Ofc. 1C, Barranquilla, Colombia; NIT # 802019694-4 (Colombia) [SDNT].

4. MAYOR COMERCIALIZADORA LTDA., Carrera 40 No. 169-30 Barrio Toberin, Bogota, Colombia; NIT # 800088288-4 (Colombia) [SDNT].

5. MOR GAVIRIA, Carolina, c/o DURATEX S.A., Bogota, Colombia; c/o MOR GAVIRIA Y CIA. S.C.S., Bogota, Colombia; c/o SUPER BOYS GAMES LTDA., Bogota, Colombia; DOB 17 Aug 1985; POB Colombia; Cedula No. 53177751 (Colombia) (individual) [SDNT].

6. MOR GAVIRIA, Jaime, c/o DURATEX S.A., Bogota, Colombia; c/o MOR ALFOMBRAS ALFOFIQUE S.A., Bogota, Colombia; c/o PROMOCIONES E INVERSIONES LAS PALMAS S.A., Bogota, Colombia; c/o SUPER BOYS GAMES LTDA., Bogota, Colombia; c/o GAVIRIA MOR Y CIA. LTDA., Girardot, Colombia; c/o MOR GAVIRIA Y CIA. S.C.S., Bogota, Colombia; DOB 27 Sep 1980; POB Colombia; Cedula No. 11203386 (Colombia); Passport AG443304 (Colombia) (individual) [SDNT].

7. RAMIREZ ESCUDERO, Pedro Emilio, Calle 6A No. 48-36, Cali, Colombia; c/o GALAPAGOS S.A., Cali, Colombia; Cedula No. 16820602 (Colombia) (individual) [SDNT].

8. VALENCIA TRUJILLO, Guillermo, Calle 93A No. 14-17 Ofc. 711, Bogota, Colombia; Calle 93N No. 14-20 Ofc. 601, Bogota, Colombia; Carrera 66 No. 7-31, Bogota, Colombia; Calle 67 Norte No. 8-85, Cali, Colombia; DOB 19 Oct 1947; POB Cali, Valle, Colombia; Cedula No. 14942909 (Colombia); Passport 14942909 (Colombia) (individual) [SDNT].

Dated: September 12, 2007.
Adam J. Szubin,
Director, Office of Foreign Assets Control.

[FR Doc. E7-18307 Filed 9-17-07; 8:45 am]

BILLING CODE 4811-42-P